DEPARTMENT OF ENERGY

Federal Energy Regulatory Commission

Combined Notice of Filings

Take notice that the Commission has received the following Natural Gas Pipeline Rate and Refund Report filings:

Filings Instituting Proceedings

Docket Numbers: CP16-17-002.

Applicants: Millennium Pipeline Company, L.L.C.

Description: Abbreviated Application for a Limited Amendment of Certificate of Public Convenience and Necessity of Millennium Pipeline Company, L.L.C.

Filed Date: 06/02/2017.

Accession Number: 20170602-5155.

Comment Date: 5:00 p.m. Eastern Time on Friday, August 4, 2017.

Docket Numbers: RP17-900-000.

Applicants: Dominion Energy Questar Pipeline, LLC.

Description: Dominion Energy Questar Pipeline, LLC submits tariff filing per 154.204: Firm Peaking Deliverability Service to be effective 9/1/2017.

Filed Date: 07/14/2017.

Accession Number: 20170714-5005.

Comment Date: 5:00 p.m. Eastern Time on Wednesday, July 26, 2017.

Docket Numbers: RP17-901-000.

Applicants: Equitrans, L.P.

Description: Equitrans, L.P. submits tariff filing per 154.204: 10-1-2016 Formula-Based Negotiated Rates to be effective 10/1/2016.

Filed Date: 07/14/2017.

Accession Number: 20170714-5007.

Comment Date: 5:00 p.m. Eastern Time on Wednesday, July 26, 2017.

Docket Numbers: RP17-902-000.

Applicants: Alliance Pipeline L.P.

Description: Alliance Pipeline L.P. submits tariff filing per 154.204: Fuel Gas Imbalance Management to be effective 9/1/2017.

Filed Date: 07/14/2017.

Accession Number: 20170714-5076.

Comment Date: 5:00 p.m. Eastern Time on Wednesday, July 26, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2017.
Nathaniel J. Davis, Sr.
Deputy Secretary.

[FR Doc. 2017-15425 Filed 7-21-17; 8:45 am]

BILLING CODE 6717-01-P